NATIONAL SCIENCE FOUNDATION

Agency Information Collection Activities: Comment Request

AGENCY: National Center for Science and Engineering Statistics, National Science Foundation.

ACTION: Notice.

SUMMARY: The National Center for Science and Engineering Statistics (NCSES) within the National Science Foundation invites the general public and other federal agencies to comment on a renewal for a proposed information collection, OMB control number 3145-0278. NCSES plans to collect information from individuals to fulfill its data security requirements when providing the individual with access to restricted use microdata for the purpose of evidence building. NCSES's data security agreements and other paperwork along with the corresponding security protocols allow the agency to maintain careful controls on confidentiality and privacy, as required by law. The purpose of this notice is to allow for 60 days of public comment on the proposed data security information collection, prior to submission of the information collection request (ICR) to the Office of Management and Budget (OMB).

DATES: Written comments on this notice must be received by April 7, 2026 to be assured of consideration. Comments received after that date will be considered to the extent practicable. Send comments to the address below.

ADDRESSES: Suzanne H. Plimpton, Reports Clearance Officer, National Science Foundation, 401 Dulaney Street, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments are invited on (a) whether the proposed collection of information is necessary for the proper performance of the functions of NCSES, including whether the information will have practical utility; (b) the accuracy of NCSES estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

SUPPLEMENTARY INFORMATION: The Foundations for Evidence-Based Policymaking Act of 2018 mandates that the Office of Management and Budget (OMB) establish a Standard Application Process (SAP) for requesting access to certain confidential data assets. While the adoption of the SAP is required for statistical agencies and units designated under the Confidential Information Protection and Statistical Efficiency Act of 2018, it is recognized that other agencies and organizational units within the Executive branch may benefit from the adoption of the SAP to accept applications for access to confidential data assets. The SAP is a process through which agencies, the Congressional Budget Office, State, local, and Tribal governments, researchers, and other individuals, as appropriate, may apply to access confidential data assets held by a federal statistical agency or unit for the purpose of developing evidence. With the Interagency Council on Statistical Policy (ICSP) as advisors, the entities upon whom this requirement is levied worked with the SAP Project Management Office (PMO) and with OMB to implement the SAP. The SAP Portal is a single web-based common application for requesting access to confidential data assets from federal statistical agencies and units. The information collected through the SAP Portal is approved under an ICR, OMB control number 3145-0271.

Once an application for confidential data is approved through the SAP Portal, NCSES plans to collect information to meet its data security requirements. This proposed collection would occur outside of the SAP Portal.

Title of Collection: Data Security Requirements for Accessing Confidential Data.

OMB Control Number: 3145-0278.

Expiration Date of Current Approval: July 31, 2026.

Type of Request: Intent to seek approval to collect information to fulfill NCSES's security requirements allowing individuals to access confidential data assets for the purposes of building evidence.

Abstract:

Title III of the Foundations for Evidence-Based Policymaking Act of 2018 (hereafter referred to as the Evidence Act) mandates that OMB establish a Standard Application Process (SAP) for requesting access to certain confidential data assets. Specifically, the Evidence Act requires OMB to establish a common application process through which agencies, the Congressional Budget Office, State, local, and Tribal governments, researchers, and other individuals, as appropriate, may apply for access to confidential data assets collected, accessed, or acquired by a statistical agency or unit. This process was implemented while maintaining stringent controls to protect confidentiality and privacy, as required by law.

Data collected, accessed, or acquired by statistical agencies and units is vital for developing evidence on the characteristics and behaviors of the public and on the operations and outcomes of public programs and policies. This evidence can benefit the stakeholders in the programs, the broader public, as well as policymakers and program managers at the local, State, Tribal, and National levels. The many benefits of access to data for evidence building notwithstanding, NCSES is required by law to maintain careful controls that allow it to minimize disclosure risk while protecting confidentiality and privacy. The fulfillment of NCSES's data security requirements places a degree of burden on individuals, which is outlined below.

The SAP Portal is a web-based application to allow individuals to request access to confidential data assets from federal statistical agencies and units. The objective of the SAP Portal is to broaden access to confidential data for the purposes of evidence building and reduce the burden of applying for confidential data. Once an individual's application in the SAP Portal has received a positive determination, the data-owning agency(ies) or unit(s) begin the process of collecting information to fulfill their data security requirements.

The paragraphs below outline the SAP Policy, the steps to complete an application through the SAP Portal, and the process NCSES proposed to use to collect information fulfilling its data security requirements.

The SAP Policy

At the recommendation of the ICSP, the SAP Policy established the SAP to be implemented by statistical agencies and units and incorporate directives from the Evidence Act. The policy is intended to provide guidance as to the application and review processes using the SAP Portal, setting forth clear standards that enable statistical agencies and units to implement a common application form and a uniform review process. The SAP Policy was issued in December of 2022 as OMB memorandum 23-04: https://www.whitehouse.gov/wp-content/uploads/2022/12/M-23-04.pdf.

The SAP Portal

The SAP Portal is an application interface connecting applicants seeking data with a catalog of metadata for data assets owned by the federal statistical agencies and units. The SAP Portal is not a new data repository or warehouse; confidential data assets continue to be stored in secure data access facilities owned and hosted by the federal statistical agencies and units. The Portal provides a streamlined application process across agencies, reducing redundancies in the application process. This single SAP Portal improves the process for applicants, tracking and communicating the application process throughout its lifecycle. This reduces redundancies and burden on applicants who request access to data from multiple agencies. The SAP Portal automates key tasks to save resources and time and brings agencies into compliance with the Evidence Act statutory requirements.

Data Discovery

Individuals begin the process of accessing restricted use data by discovering confidential data assets through the SAP metadata catalog maintained by federal statistical agencies at www.researchdatagov.org. Potential applicants can search by agency, topic, or keyword to identify data of interest or relevance. Once they have identified data of interest, applicants can view metadata outlining the title, description or abstract, scope and coverage, and detailed methodology related to a specific data asset to determine its relevance to their research.

While statistical agencies and units endeavor to include information in the SAP metadata catalog on all confidential data assets for which they accept applications, it may not be feasible to include metadata for some data assets (e.g., potential special tabulations of administrative data). A statistical agency or unit may still accept an application through the SAP Portal even if the requested data asset or special tabulation is not listed in the SAP metadata catalog.

SAP Application Process

Individuals who have identified and wish to access confidential data assets are able to apply for access through the SAP Portal. Applicants must create an account and follow all steps to complete the application. Applicants begin by entering their personal, contact, and institutional information, as well as the personal, contact, and institutional information of all individuals on their research team. Applicants provide summary information about their proposed project to include project title, duration, funding, and timeline. Other details provided by applicants include the data asset(s) they are requesting and any proposed linkages to data not listed in the SAP metadata catalog, including non-federal data sources. Applicants then enter detailed information regarding their proposed project, including a project abstract, research question(s), literature review, project scope, research methodology, project products, and anticipated output. Within the application, applicants must demonstrate a need for confidential data, outlining why their research question cannot be answered using publicly available information.

Submission for Review

Upon submission of their application, applicants receive a notification that their application has been received and is under review by the data-owning agency or agencies (in the event where data assets are requested from multiple agencies). At this point, applicants are notified that application approval does not alone grant access to confidential data, and that, if approved, applicants must comply with the data-owning agency's security requirements outside of the SAP Portal, which may include a background check.

In accordance with the Evidence Act and the direction of the ICSP, agencies will approve or reject an application within a prompt timeframe. In some cases, agencies may determine that additional clarity, information, or modification is needed and request the applicant to “revise and resubmit” their application.

Access to Restricted Use Data

In the event of a positive determination, the applicant is notified that their proposal has been accepted. The positive or final adverse determination concludes the SAP Portal process. In the instance of a positive determination, the data-owning agency (or agencies) contacts the applicant to provide instructions on the agency's security requirements that must be completed by the applicant to gain access to the confidential data. The completion and submission of the agency's security requirements take place outside of the SAP Portal.

Collection of Information for Data Security Requirements

In the instance of a positive determination for an application requesting access to an NCSES-owned confidential data asset, NCSES contacts the applicant(s) to initiate the process of collecting information to fulfill its data security requirements. This process allows NCSES to place the applicant(s) in a trusted access category and includes the collection of the following information from applicant(s):

• Restricted-use licensing agreement—This document is an agreement between NCSES and the applicant's organization provisioning NCSES's confidential data assets exclusively for statistical purposes in accordance with the terms and conditions stated in the agreement and all prevailing laws and regulations. The agreement requires signatures from the applicant(s) and a senior official at the applicant's organization who has the authority to enter the organization into a legal agreement with NCSES.

• Security plan form—This document requests information from the applicant(s) to ensure the confidential data assets are protected from unauthorized access, disclosure, or modification. The information collected in the security plan form includes the following:

○ planned work location address(es),

○ workstation specifications (make, model, serial number, type, and operating system),

○ workstation authorized users,

○ workstation monitor position (to prevent unauthorized viewing), and

○ workstation antivirus brand and version.

In addition, the applicant(s) must initial a series of security measures to indicate compliance. Finally, the form requires signatures from the applicant(s), a senior official at the applicant's organization, and a Information System Security Officer (ISSO) at the applicant's organization. The ISSO, in signing the Security plan form, assures the inspection and integrity of the applicant's security plan.

• Affidavit of nondisclosure form—This document describes the confidentiality protections the applicant(s) must uphold and the penalties for unauthorized access or disclosure. The form requires signatures from the applicant(s) and the principal researcher for the project as well as the imprint of a notary public.

Estimate of Burden

The amount of time to complete the agreements and other paperwork that comprise NCSES's security requirements will vary based on the confidential data assets requested. To obtain access to NCSES confidential data assets, it is estimated that the average time to complete and submit NCSES's data security agreements and other paperwork is 30 minutes. This estimate does not include the time needed to complete and submit an application within the SAP Portal. All efforts related to SAP Portal applications occur prior to and separate from NCSES's effort to collect information related to data security requirements.

The expected number of applications in the SAP Portal that receive a positive determination from NCSES in a given year may vary. Overall, per year, NCSES estimates it will collect data security information for 20 application submissions that received a positive determination within the SAP Portal. NCSES estimates that the total burden for the collection of information for data security requirements over the course of the three-year OMB clearance will be about 30 hours and, as a result, an average annual burden of 10 hours.

Dated: January 30, 2026.
Suzanne H. Plimpton,
Reports Clearance Officer, National Science Foundation.

[FR Doc. 2026-02447 Filed 2-5-26; 8:45 am]

BILLING CODE 7555-01-P